DEPARTMENT OF ENERGY

Federal Energy Regulatory Commission

[Project No. 2280-018]

FirstEnergy Generation, LLC; Notice of Application Tendered for Filing With the Commission and Establishing Procedural Schedule for Licensing and Deadline for Submission of Final Amendments

Take notice that the following hydroelectric application has been filed with the Commission and is available for public inspection.

a. Type of Application: New Major License.

b. Project No.: P-2280-018.

c. Date Filed: December 2, 2013.

d. Applicant: FirstEnergy Generation, LLC.

e. Name of Project: Kinzua Pumped Storage Project.

f. Location: The existing project is located on the United States Army Corps of Engineers (Corps) Kinzua Dam, and the United States Forest Service (Forest Service) Allegheny National Forest, adjacent to the Allegheny River and the Allegheny Reservoir near the City of Warren, in Warren County, Pennsylvania. The project occupies 221.59 acres of federal lands.

g. Filed Pursuant to: Federal Power Act, 16 U.S.C. 791(a)-825(r).

h. Applicant Contact: Morgan E. Parke, Associate General Counsel, FirstEnergy Service Company, 76 South Main Street, Akron, OH 44308; Telephone (330) 384-4595.

i. FERC Contact: Gaylord Hoisington, (202) 502-6032 or gaylord.hoisington@ferc.gov.

j. This application is not ready for environmental analysis at this time.

k. The existing Kinzua Pumped Storage Project pumps water from the Corps' Allegheny Reservoir (lower reservoir) to the project's upper reservoir to be used for power generation. The project has an installed capacity of 451.8 megawatts. The project produces an average annual generation of 559.06 gigawatthours (GWh). The average pumping power used by the project is 747.355 GWh.

The existing Kinzua Project consists of: an intake/outlet structure in the Allegheny Reservoir, a discharge outlet in the Allegheny River, an upper reservoir, water conduits, control facilities and a powerhouse containing two reversible pump turbines (units 1 and 2) and one traditional generating unit (unit 3). Unit 1 and 2, when pumping water from or discharging water to the Allegheny Reservoir does so through two 418-foot-long, 15-foot-diameter steel conduits. Unit 2 discharges to the Allegheny River downstream of the dam, it uses a discharge passage which is shared with unit 3. The intake structure located in the floor of the upper reservoir leads to a 22-foot-long, 4-inch-diameter pipe that transitions to a 21-foot-long, 6-inch-diameter steel-lined pipe for 2,500 feet where it bifurcates with one pipe extending 325.35 feet to unit 1 and the other pipe extending 245.95 feet where it bifurcates again. At the second bifurcation, one pipe extends 98.29 feet to unit 2 and 100.3 feet to unit 3. Each of the 3 penstocks contains a spherical valve near the entrance to each unit. The discharge passage for unit 2 consists of a 15-foot-diameter butterfly valve downstream of unit 2 to allow unit 2 to either generate into the discharge passage (open position) or pump/generate to the Allegheny Reservoir (closed position). This valve opens into a 15-foot-diameter steel discharge section tee and accepts water from both unit 2 and 3, up to 2,650 cubic feet per second (cfs) full gate capacity. The discharge tee transitions to a concrete-lined rectangular section 99 feet wide which outlets into the Allegheny River downstream of the Kinzua Dam.

The project withdraws water from the Allegheny Reservoir, created by the Kinzua Dam. Water used for electricity production is pumped from the Allegheny Reservoir to the project's upper reservoir using one or both reversible pump turbines (unit 1 and/or unit 2), and later passed through unit 1 and/or unit 2 back to the Allegheny Reservoir. Another portion of water used for electricity production can be pumped to the upper reservoir using unit 1 and/or unit 2, and then released directly into the Allegheny River using unit 2 and/or unit 3. FirstEnergy is proposing to operate unit 2 to discharge to the Allegheny River on a more frequent basis than under current operation. To facilitate these operations, FirstEnergy proposes to install a system to automate operation of the project's lower intake bulkheads and Corp's sluice gates, and refurbish the unit 2 butterfly valve.

Other project works include transformers, a transmission line approximately 3,100 feet long, access roads, recreational and other appurtenant facilities.

FirstEnergy is proposing to raise the maximum operating level of the upper reservoir from 2,072 feet to 2,073 feet, (increase of 1 foot), and by doing so would increase the average annual generation from 559.06 GWh to 585.06 GWh.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | 1/31/2014
Filing of recommendations, preliminary terms and conditions, and fishway prescriptions | 4/1/2014
Commission issues Draft EA | 9/28/2014
Comments on Draft EA | 10/28/2014
Modified Terms and Conditions | 12/27/2014
Commission Issues Final EA | 3/27/2015

o. Final amendments to the application must be filed with the Commission no later than 30 days from the issuance date of the notice of ready for environmental analysis.

Dated: December 16, 2013.
Kimberly D. Bose,
Secretary.

[FR Doc. 2013-30321 Filed 12-19-13; 8:45 am]

BILLING CODE 6717-01-P